DEPARTMENT OF TRANSPORTATION

Federal Highway Administration

Docket No. FHWA-2011-0014

Agency Information Collection Activities: Notice of Request for Approval of a New Information Collection

AGENCY: Federal Highway Administration (FHWA), DOT.

ACTION: Notice of Request for Approval of a New Information Collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by May 2, 2011.

ADDRESSES: You may submit comments identified by DOT Docket ID Number 2011-0014 by any of the following methods:

Web Site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: David Kuehn, 202-493-3414, Office of Corporate Research, Technology, and Innovation Management, Federal Highway Administration, Department of Transportation, 1200 New Jersey Avenue, SE., Washington, DC 20590, Monday through Friday, except Federal holidays.

SUPPLEMENTARY INFORMATION: Title: Exploratory Advanced Research (EAR) Program sponsored project titled “Effects of Automated Transit and Pedestrian/Bicycling Facilities on Urban Travel Patterns.”

Type of request: New information collection requirement.

Background: The Exploratory Advanced Research (EAR) Program was established to conduct longer term, higher risk research that will result in a potentially dramatic breakthrough for improving the durability, efficiency, environmental impact, productivity, and safety of highway and intermodal transportation systems. FHWA awarded a research project titled “Effects of Automated Transit and Pedestrian/Bicycling Facilities on Urban Travel Patterns” that was submitted in response to a solicitation in 2009 and supports the EAR Program focus area of new technology and advanced policies for energy and resource conservation. The project conducted by the University of Michigan with support from the University of Illinois at Chicago has the potential to lead to applications for evidence-based policies and approaches that could substantially reduce the percentage and total number of short trips using private vehicles and increase the percentage and number of trips using current and future transit technology and non-motorized trips, which would reduce use and dependence on fossil fuels and associated pollution impacts.

The research project is attempting to gauge potential travel-behavior response to far-reaching improvements in the pedestrian, cycling, and transit environments of neighborhoods. The transit improvements are inspired by the frequency and quality of service that might be made possibility of future technologies. The project is studying the capacity of these improvements to generate the following kinds of shifts: (1) Modal shift of neighborhood trips from auto to other modes; (2) Increased use of regional public transit based on improved station access; and (3) Shift of more remote non-work destinations to destinations within the neighborhood.

To explore these issues, the research team is building a model that integrates activity-based and agent-based components. The models in turn will be based on a survey of residents in four neighborhoods of metropolitan Chicago. As part of the survey, respondents will be presented with images representing potential improvements to the pedestrian, cycling, and transit environments of their neighborhoods and will respond to scenarios regarding their travel under these altered conditions.

We will mail 7,700 invitations with an expectation of 1,400 residents responding. From that pool, 800 will be selected for the study, which includes a survey packet, travel diary and phone interview.

Respondents: We estimate that 1,400 residents will respond to the initial invitation and 800 residents will participate in the study.

Frequency: This is a one-time collection.

Estimated Average Burden per Response: The invitation portion takes approximately 15 minutes to complete.

1400 residents × 15 minutes = 350 hours.

The research study takes approximately 1 hour and 30 minutes (30 minutes for the survey packet and travel diary and 1 hour for the phone interview).

800 residents × 90 minutes = 1,200 hours.

Estimated Total Annual Burden Hours: The total burden for this one-time information collection would be approximately 1,550 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: February 24, 2011.
Juli Huynh,
Chief, Management Programs and Analysis Division.

[FR Doc. 2011-4590 Filed 2-28-11; 8:45 am]

BILLING CODE 4910-22-P